DEPARTMENT OF HOUSING AND URBAN DEVELOPMENT

[Docket No. FR-5800-FA-19]

Announcement of Funding Awards for the Appalachia Economic Development Initiative Fiscal Year 2014

AGENCY: Office of the Assistant Secretary for Community Planning and Development, HUD.

ACTION: Notice of Funding Awards.

SUMMARY: In accordance with section 102(a)(4)(C) of the Department of Housing and Urban Development Reform Act of 1989, this announcement notifies the public of funding decisions made by the Department in a competition for funding under the Notice of Funding Availability (NOFA) for the Appalachia Economic Development Capital Initiative. This announcement contains the names of the awardees and the amounts of the awards made available by HUD.

FOR FURTHER INFORMATION CONTACT: Jackie L. Williams, Ph.D., Director, Office of Rural Housing and Economic Development, Office of Community Planning and Development, 451 Seventh Street SW., Room 7240, Washington, DC 20410-7000; telephone (202) 708-2290 (this is not a toll free number). Hearing- and speech-impaired persons may access this number via TTY by calling the Federal Relay Service toll-free at 1-800-877-8339.

SUPPLEMENTARY INFORMATION: Funds used for the Appalachia Economic Development Initiative were appropriated to the Office of Rural Housing and Economic Development in annual appropriations between 1999 and 2009 (Public Laws 105-276; 106-74; 106-377; 107-73; 108-7; 108-199; 108-447; 109-115; 110-5; 110-161; and/or 111-8) and subsequently recaptured from or surrendered by underperforming or nonperforming grantees.

The competition was announced in the Federal Register (FR Doc. No. FR-5800-N-19) on Thursday, September 4, 2014. Applications were rated and selected for funding on the basis of selection criteria contained in that notice.

The Catalog of Federal Domestic Assistance number for this Appalachia Economic Development Initiative program is 14.270. The Appalachia Economic Development Community Initiative is designed to increase access to capital for business lending and economic development in the chronically underserved and undercapitalized Appalachian region. Eligible applicants for the Appalachia Economic Development Initiative are State community and/or economic development agencies. The funds made available under this program were awarded competitively through a selection process conducted by HUD.

In accordance with section 102(a)(4)(C) of the Department of Housing and Urban Development Reform Act of 1989 (103 Stat. 1987. 42 U.S.C. 3545), the Department is publishing the grantees and amounts of the awards in Appendix A to this document.

Dated: October 1, 2015.
Harriet Tregoning,
Principal Deputy Assistant, Secretary for Community Planning and Development.

Appendix A

FY 2014 Appalachia Economic Development Initiative Grantees
Grantee | State | Amount awarded
Kentucky Department of Local Government | KY | $200,000.00
State of Maryland—Department of Housing and Community Development | MD | 350,000.00
Total |  | 550,000.00

[FR Doc. 2015-25535 Filed 10-6-15; 8:45 am]

BILLING CODE 4210-67-P